DEPARTMENT OF HEALTH AND HUMAN SERVICES

Indian Health Service

Proposed Information Collection: Indian Health Service Chief Executive Officer Retention Survey Request for Public Comment: 30-Day Notice

AGENCY: Indian Health Service, HHS.

ACTION: Request for Public Comment: 30-day Proposed Information Collection: Indian Health Service Chief Executive Officer Retention Survey.

SUMMARY: The Indian Health Service (IHS), as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that the requested data can be provided in the desired format, reporting burden (time and financial resources) is minimized, collection instruments are clearly understood, and the impact of collection requirements on respondents can be properly assessed. As required by section 3507(a)(1)(D) of the Act, the proposed information collection has been submitted to the Office of Management and Budget (OMB) for review and approval.

The IHS received no comments in response to the 60-day Federal Register notice (71 FR 3098) published on January 19, 2006. The purpose of this notice is to allow an additional 30 days for public comments to be submitted directly to OMB.

Proposed Collection: Title: 0917-NEW, “Indian Health Service Chief Executive Officer Retention Survey”. Type of Information Collection Request: New Collection. Form Number: None. Forms: Retention Survey. Need and Use of Information Collection: The National Council of Chief Executive Officers (NCCEOs) was established to ensure that the IHS Service Unit Chief Executive Officers (CEOs) effectively participate in the establishment and implementation of strategies to achieve the IHS mission. Part of their responsibility (as stated in their Charter) includes: Ongoing recruitment, development, and retention of professional CEOs. The NCCEOs' purpose is to ensure that the IHS Service Unit CEO and their Tribal CEO counterparts effectively participate in the establishment and implementation of an agency strategy to achieve the IHS mission. The current Executive Committee is actively addressing recruitment, retention and succession planning for their constituents, the IHS CEOs. To enhance their ability to be effective in this challenging tasks, the NCCEOs need to know more about IHS CEOs and the issues that affect retention and recruitment including the competitive influences of private sector health care delivery systems. The chosen method to obtain this critical information from the CEOs of IHS, Tribal and urban facilities is by electronic survey. The goal of the IHS is to raise the health status of American Indians and Alaska Natives to the highest possible level. The meet this goal, the IHS is committed to providing high quality health services to he eligible service population. An important factor in improving the quality of services is ensuring that our clinics and hospitals recruit and retain the best possible CEO reasonably available. The proposed survey is designed to as certain current demographics: Age, gender, years of experience, education, pay compared to complexity of facilities, job satisfaction and retirement eligibility. Affected Public: Individuals. Type of Respondents: Individuals.

The table below provide the estimated burden hours for this information collection:

Estmated Burden Hours
Data collection instrument | Estimated number of respondents | Responses per respondent | Average burden hour per response* | Total annual burden hours
CEO Retention Survey | 120 | 1 | 0.15 (10 mins.) | 20
* For ease of understanding, burden hours are also provided in minutes.

There are not Capital Costs, Operating Costs and/or Maintenance Costs to report.

Request for Comments: Your written comments and/or suggestions are invited on one or more of the following points: (a) Whether the information collection activity is necessary to carry out an agency function; (b) whether the agency processes the information collected in a useful and timely fashion; (c) the accuracy of public burden estimate (the estimated amount of time needed for individual respondents to provide the requested information); (d) whether the methodology and assumptions used to determine the estimate are logical; (e) ways to enhance the quality, utility, and clarity of the information being collected; and (f) ways to minimize the public burden through the use of automated, electronic, mechanical, or other technological collection techniques or other forms of information technology.

Direct Comments to OMB: Send your written comments and suggestions regarding the proposed information collection contained in this notice, especially regarding the estimated public burden and associated response time, directly to: Office of Management and Budget, Office of Regulatory Affairs, New Executive Office Building, Room 10235, Washington, DC 20503, Attention: Allison Eydt, Desk Officer for IHS.

FOR FURTHER INFORMATION CONTACT: Send requests for more information on the proposed collection or to obtain a copy of the data collection instrument(s) and instructions to: Mrs. Christina Rouleau, IHS Reports Clearance Officer, 801 Thompson Avenue, TMP Suite 450, Rockville, MD 20852-1601, call non-toll free (301) 443-5938, send via facsimile to (301) 443-2316, or send your e-mail requests, comments, and return address to: crouleau@hqe.ihs.gov.

Comments Due Date: Your comments regarding this information collection are best assured of having their full effect if received within 30-days of the date of this publication.

Dated: March 23, 2006.
Charles W. Grim,
Assistant Surgeon General, Director, Indian Health Service.

[FR Doc. 06-3057 Filed 3-29-06; 8:45 am]

BILLING CODE 4165-16-M